DEPARTMENT OF HEALTH AND HUMAN SERVICES

Health Resources and Services Administration

HRSA-03-100 Fiscal Year 2003 Application Cycle for the Nurse Faculty Loan Program (NFLP); CFDA 93.264

AGENCY: Health Resources and Services Administration, HHS.

ACTION: Notice.

SUMMARY: The Health Resources and Services Administration (HRSA) announces that applications will be accepted for the Nurse Faculty Loan Program for Fiscal Year 2003.

Purpose of Award: The Nurse Faculty Loan Program authorizes the Secretary to enter into an agreement with a school of nursing to establish and operate a student loan fund to increase the number of qualified nurse faculty.

Authorizing Legislation: These applications are solicited under the authority of Title VIII, section 846A of the Public Health Service (PHS) Act, as amended.

Statutory Matching or Cost Sharing Requirement: Under Section 846A of the PHS Act the school of nursing shall deposit in the loan fund an amount equal to not less than one-ninth of the Federal capital contribution (FCC) to such fund.

Eligible Applicants: Schools of nursing eligible to apply must be accredited and offer full-time advanced degree programs in nursing that contain an education component to prepare students to serve as nurse faculty.

Funding Priorities and/or Preferences: None.

Service Requirement: An amount of up to 85 percent of the loan (plus interest thereon) can be cancelled in exchange for the recipient working as faculty in a school of nursing following graduation.

Upon completion by the individual of each of the first, second, and third year of full-time employment as a faculty member in a school of nursing, the school shall cancel 20 percent of the principal of, and the interest on, the amount of the loan unpaid on the first day of such employment. Upon completion of the fourth year of full-time employment as a faculty member in a school of nursing the school shall cancel 25 percent of the principal of, and the interest on the loan unpaid on the first day of such employment.

Review Criteria: The Nurse Faculty Loan Program for fiscal year 2003 is expected to be competitive. The program anticipates more funding requests than there are funds available. If there are insufficient funds to award all applicants who meet the eligibility criteria, applicants will be randomly selected until all funds are expended.

Estimated Amount of Available Funds: $3,000,000.

Estmated Number of Awards: 100.

Estimated or Average Size of Each Award: $15,000-$60,000.

Estimated Project Period: September 1, 2003-June 30, 2004.

Application Request and Award Process: Application materials will be available for downloading via the web at http://www.bhpr.hrsa.gov/nursing/reinvestmentact.htm on July 1, 2003. Applicants may also request a hard copy of the application material by calling (301) 443-6333. Applications may not be submitted electronically at this time. Applicants should note that HRSA anticipates accepting grant applications online in the last quarter of the Fiscal Year (July through September). In order to be considered for participation in this program, applications must be postmarked or delivered by July 31, 2003, to the Division of Nursing (NFLP), Bureau of Health Professions, Health Resources and Services Administration, Parklawn Building, Room 9-35, 5600 Fishers Lane, Rockville, MD 20857. Applicants should request a legibly dated U.S. Postal postmark or obtain a legibly dated receipt from a commercial carrier or U.S. Postal Service. Private metered postmarks shall not be acceptable as proof of timely mailing. An application receipt will be provided from the Division of Nursing by email to the applicant. Applications submitted after the deadline date will be returned to the applicant and not processed.

Projected Award Date: No later than September 30, 2003.

FOR FURTHER INFORMATION CONTACT: Denise Thompson, Division of Nursing, Bureau of Health Professions, HRSA, Room 9-36, Parklawn Building, 5600 Fishers Lane, Rockville, Maryland 20857. Telephone number: (301) 443-6333. Fax number: (301) 443-0791. E-mail: dthompson@hrsa.gov.

Paperwork Reduction Act: The application has been approved by the Office of Management and Budget (OMB) under the Paperwork Reduction Act. The OMB clearance number is 0915-0060. The program is not subject to Executive Order 12372, Intergovernmental Review of Federal Programs (as implemented through 45 CFR part 100).

Dated: June 13, 2003.
Dennis P. Williams,
Deputy Administrator.

[FR Doc. 03-16509 Filed 6-30-03; 8:45 am]

BILLING CODE 4165-15-P